DEPARTMENT OF THE INTERIOR

National Park Service

[NPS-WASO-NRSS-EQD-RPB—NPS00; PPMRSNR1Y.NM0000; PPWONRADE1; OMB Control Number 1024-NEW]

Agency Information Collection Activities; National Park Service Scenic Valuation Study

AGENCY: National Park Service, Interior.

ACTION: Notice of Information Collection; request for comment.

SUMMARY: In accordance with the Paperwork Reduction Act of 1995 we, the National Park Service (NPS) are proposing a new information collection.

DATES: Interested persons are invited to submit comments on or before April 9, 2024.

ADDRESSES: Written comments on this information collection request (ICR) can be sent to the NPS Information Collection Clearance Officer (ADIR-ICCO), 13461 Sunrise Valley Drive, (MS 244) Herndon, VA 20171, VA 20191 (mail); or phadrea_ponds@nps.gov (email). Please reference Office of Management and Budget (OMB) Control Number “1024-NEW (Scenic Valuation)” in the subject line of your comments.

FOR FURTHER INFORMATION CONTACT: To request additional information about this ICR, contact Heather Best, Economist, at heather_best@nps.gov (email) or 970-420-3153 (telephone). Please reference OMB Control Number 1024-NEW (Scenic Valuation) in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary for the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Park Service (NPS) is authorized by 54 U.S.C. 100701 and the System Unit Resource Protection Act (54 U.S.C. 100721) to collect information that can be used to assess the economic value of lost or damaged resources. Currently, the NPS does not have any valuation estimates for quantifying the loss of scenic resources due to intentional or accidental actions. The NPS Environmental Quality Division will request approval to conduct a short on-site survey followed by a mail-back survey to determine the economic value associated with the preservation (avoided loss) of scenic resources within NPS units from intentional or accidental loss. Data from the study will be used by the NPS to provide parks with estimates of economic losses to park visitors associated with damages to park scenic resources.

Title of Collection: National Park Service Scenic Valuation Study.

OMB Control Number: 1024-NEW.

Form Number: None.

Type of Review: New.

Respondents/Affected Public: Individuals and Households.

Total Estimated Number of Annual Responses: 5,326 (3360 on-site respondents, 756 non-response respondents,1210 mail-back survey respondents).

Estimated Completion Time per Response: Varies between 2 and 15 minutes (5 min. on-site survey, 2 min. non-response survey, 15 min. mail-back survey).

Total Estimated Number of Annual Burden Hours: 608 hrs. (280 hrs. on-site survey; 25 hrs. non-response survey; 303 hrs. mail-back survey).

Respondent's Obligation: Voluntary.

Frequency of Collection: Once.

Total Estimated Annual Nonhour Burden Cost: None.

An agency may not conduct or sponsor nor is a person required to respond to a collection of information unless it displays a currently valid OMB control number.

The authority for this action is the Paperwork Reduction Act of 1995 (44 U.S.C. 3501 et seq.).

Phadrea Ponds,
Information Collection Clearance Officer, National Park Service.

[FR Doc. 2024-02725 Filed 2-8-24; 8:45 am]

BILLING CODE 4312-52-P